DEPARTMENT OF THE INTERIOR

National Park Service

[NPS-WASO-NAGPRA-NPS0038514; PPWOCRADN0-PCU00RP14.R50000]

Notice of Intended Repatriation: The Children's Museum of Indianapolis, Indianapolis, IN

AGENCY: National Park Service, Interior.

ACTION: Notice.

SUMMARY: In accordance with the Native American Graves Protection and Repatriation Act (NAGPRA), The Children's Museum of Indianapolis intends to repatriate certain cultural items that meet the definition of sacred objects and/or objects of cultural patrimony and that have a cultural affiliation with the Indian Tribes or Native Hawaiian organizations in this notice.

DATES: Repatriation of the cultural items in this notice may occur on or after September 20, 2024.

ADDRESSES: Jennifer Noffze, The Children's Museum of Indianapolis, 3000 N Meridian Street, Indianapolis, IN 46208, telephone (317) 334-3722, email jenn@childrensmuseum.org.

SUPPLEMENTARY INFORMATION: This notice is published as part of the National Park Service's administrative responsibilities under NAGPRA. The determinations in this notice are the sole responsibility of The Children's Museum of Indianapolis, and additional information on the determinations in this notice, including the results of consultation, can be found in the summary or related records. The National Park Service is not responsible for the determinations in this notice.

Abstract of Information Available

A total of 19 cultural items have been requested for repatriation. The 19 sacred objects/objects of cultural patrimony are:

Knife sheath (47.630.125)—donated to the museum by the Goodland Museum in 1947. The sheaf has beaded designs that include horse prints; leather has green pigment; strap is wrapped in red quills. It dates from 1885-1900 and is attributed to the Sioux.

Pipestem (47.677.125)—donated to the museum by the Goodland Museum in 1947. The long, catlinite pipestem is cylindrical at ends, square in the center, and has carved designs. It dates to around 1890 and is attributed to the Sioux.

Feathered headdress (48.177.1)—donated to the museum from the Estate of Mabel Hoster Troupe in 1948. It has a brown crown; headbands with white, purple and red beadwork; and eagle feathers. It dates to around 1920 and is attributed to the Lakota.

Child's vest (48.629.56)—donated to the museum by Anna Russell in 1948. The vest has a leather front and calico cloth back and the front is decorated with quilled bird-like designs. It dates from 1885-1900 and is attributed to the Oglala Lakota.

Doll (54.39.15)—donated to the museum by Margaret Pollitt in 1954. The doll has a cloth body; dressed in beaded buckskin with breech cloth apron, leggings, and long shirt; horsehair braids and beaded features; braided hair. It is attributed to the Sioux.

Saddle/storage bags (64.4.19AB)—donated to the museum by Mrs. Paul Moore in 1964. The bags are beaded on both sides with red dyed horsehair tassels and metal cones. They date from 1875-1885, are from North Dakota, and are attributed to the Lakota.

Beaded sheath (69.1.76)—donated to the museum by Mrs. J. William Wright, Jr. in 1969. Front of sheath covered with white, dark blue and dark brown geometric pattern on red background; black natural hide; and two beaded hide tassels. It dates from 1900-1925 and is attributed to the Sioux.

Drum (70.165.1)—purchased from George Herzog in 1970. It is a circular frame drum painted with blue stars around the edge of the head. It dates from 1890-1910 and is attributed to the Lakota.

Eagle bone whistle (74.50.106)—donated to the museum by Mr. & Mrs. Harrison E. Eiteljorg in 1974. It is yellow, hollow, slightly curved bone with red and blue lines and double leather tie. It dates from 1972-1974 and is attributed to the Oglala Lakota.

Rattle (76.214.1)—purchased from Margaret A. Davies in 1976. It is a round, flat rattle with green hide covering, fringe on end of handle, and has geometric designs. It dates to around 1970 and is attributed to the Sioux.

Headdress (77.6.5)—donated to the museum by Mr. & Mrs. Richard H. Crane in 1977. It is a red, white, blue, and green feathered headdress with ermine tassels at the temples. It dates to around 1875 and is attributed to the Sioux.

Medicine bag (77.78.1)—purchased from Gallery II, Inc (Milwaukee, WI) in 1977. Bag is made from a prairie dog with beaded and quilled appendages. It dates from 1900-1910 and is attributed to the Lakota.

Pouch (2049)—donated to the museum in 1927 (donor unknown). It is made of cow hide and has a beaded cross design on front. It dates to around 1900 and is attributed to the Lakota.

Parfleche (2718)—donated to the museum by Mrs. D.M. Parry in 1928. It is made from rawhide and painted with blue, turquoise, red, and yellow geometric motifs outlined in blue on both sides. It dates from 1875 and is attributed to the Sioux.

Parfleche (5209)—donated to the museum by Mrs. S.H. Malpas in 1931. It is a small tan pouch with yellow, red, and blue geometric designs on the front and blue and red lines on the back. It dates from 1875 and is attributed to the Sioux.

Dance rattle (5237)—donated to the museum by Mrs. S.H. Malpas in 1931. It is a hide-covered gourd on stick; handle is wrapped with red wool and buckskin; tuft of rawhide fringes on top; feathers lashed with sinew and silver paint drops on one side. It dates from 1875 and is attributed to the Sioux.

Storage bag (8528)—donated to the museum by Mrs. W.B. Wheelock in 1936. It is a rectangular storage bag decorated with narrow lanes of dyed porcupine quillwork; panels of beads are attached to the edges along with green wool tassel and metal cones with red horsehair. It dates from 1875-1900 and is attributed to the Lakota.

Pair of possible bags (3992AB)—donated to the museum by Abby W. Erskine in 1930. The bags are decorated with stripes of blue and white beads and blue cross elements; dyed horsehair tassels inside metal cones; five rectangular designs on edge in green, yellow, red and white. They date from 1885-1905 and are attributed to the Lakota.

Pouch with playing cards (5063A-C)—donated to the museum by Mrs. Vernon E. Hahn in 1931. Round pouch made from saddle leather and perforated with star and other designs; rectangular playing cards with rounded corners tucked inside. It dates from 1875-1885 and is attributed to the Sioux.

Determinations

The Children's Museum of Indianapolis has determined that:

• The 19 sacred objects/objects of cultural patrimony described in this notice are, according to the Native American traditional knowledge of an Indian Tribe or Native Hawaiian organization, specific ceremonial objects needed by a traditional Native American religious leader for present-day adherents to practice traditional Native American religion, and have ongoing historical, traditional, or cultural importance central to the Native American group, including any constituent sub-group (such as a band, clan, lineage, ceremonial society, or other subdivision).

• There is a reasonable connection between the cultural items described in this notice and the Oglala Sioux Tribe.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after September 20, 2024. If competing requests for repatriation are received, The Children's Museum of Indianapolis must determine the most appropriate requestor prior to repatriation. Requests for joint repatriation of the cultural items are considered a single request and not competing requests. The Children's Museum of Indianapolis is responsible for sending a copy of this notice to the Indian Tribes and Native Hawaiian organizations identified in this notice and to any other consulting parties.

Authority: Native American Graves Protection and Repatriation Act, 25 U.S.C. 3004 and the implementing regulations, 43 CFR 10.9.

Dated: August 7, 2024.
Melanie O'Brien,
Manager, National NAGPRA Program.

[FR Doc. 2024-18673 Filed 8-20-24; 8:45 am]

BILLING CODE 4312-52-P